DEPARTMENT OF COMMERCE

International Trade Administration

[A-533-809]

Notice of Extension of Time Limit for Preliminary Results of Antidumping Duty Administrative Review and Notice of Partial Rescission: Certain Forged Stainless Steel Flanges from India

AGENCY: Import Administration, International Trade Administration, Department of Commerce.

EFFECTIVE DATE: October 13, 2005.

FOR FURTHER INFORMATION CONTACT: David Cordell or Robert James, AD/CVD Operations, Office 7, Import Administration, International Trade Administration, U.S. Department of Commerce, 14th Street and Constitution Avenue, NW, Washington, DC 20230; telephone: (202) 482-0408 and (202) 482-0649, respectively.

SUPPLEMENTARY INFORMATION:

Background

The Department of Commerce (the Department) published an antidumping duty order on certain forged stainless steel flanges from India on February 9, 1994. See Amended Final Determination and Antidumping Duty Order; Certain Forged Stainless Steel Flanges from India, 59 FR 5994 (February 9, 1994). On February 28, 2005, Echjay Forgings, Ltd. (Echjay), Hilton Forge India (Hilton Forge), Paramount Forge Ltd./Ganguly Associates (Paramount), and Viraj Forgings, Ltd. (Viraj), Indian producers of subject merchandise, requested that the Department conduct an administrative review. On March 23, 2005, the Department initiated this administrative review. See Initiation of Antidumping and Countervailing Duty Administrative Reviews and Requests for Revocation in Part, 70 FR 14643 (March 23, 2005).

Partial Rescission

On April 18, 2005, respondents Viraj and Hilton Forge withdrew their requests for review. See Letter from Respondents to the Department dated April 18, 2005, which is on file in the Central Records Unit (CRU), room B-099, of the main Commerce Department building. The applicable regulation, 19 CFR 351.213(d)(1), states that if a party who requested an administrative review withdraws the request within 90 days of the publication of the notice of initiation of the requested review, the Secretary will rescind the review. Viraj and Hilton Forge withdrew their requests within the 90-day deadline, in accordance with 19 CFR 351.213(d)(1). No other party requested an administrative review of Viraj and Hilton Forge. Therefore, for Viraj and Hilton Forge, we are rescinding this review of the antidumping duty order on certain forged stainless steel flanges from India covering the period March 1, 2004, through February 28, 2005.

Extension of Time Limit for Preliminary Results

Pursuant to section 751(a)(3)(A) of the Tariff Act of 1930, as amended (the Tariff Act), the deadlines for preliminary and final results of this administrative review are October 31, 2005, and February 28, 2006, respectively. The Department, however, may extend the deadline for completion of the preliminary results of a review if it determines it is not practicable to complete the preliminary results within the statutory time limit. See section 751(a)(3)(A) of the Tariff Act and 19 CFR 351.213(h)(2). In this case, the Department has determined it is not practicable to complete this review within the statutory time limit because of significant issues that require additional time to evaluate. These include potential affiliation issues and questions concerning the questionnaire responses that may require additional supplemental questionnaires. Therefore, the Department is extending the time limit for completion of the preliminary results for Echjay and Paramount until February 28, 2006, in accordance with section 751(a)(3)(A) of the Tariff Act. The deadline for the final results of this review will be 120 days after publication of the preliminary results in the Federal Register. See section 751(a)(3)(A) of the Tariff Act; 19 CFR 351.213(h)(2).

This notice is issued and published in accordance with sections 751(a)(3)(A), 751(a)(1) and 777(i)(l) of the Tariff Act and 19 CFR 351.213(d)(4).

Dated: September 29, 2005.
Barbara E. Tillman,
Acting Deputy Assistant Secretary for Import Administration.

[FR Doc. E5-5604 Filed 10-12-05; 8:45 am]

BILLING CODE 3510-DS-S